DEPARTMENT OF THE TREASURY

Office of the Undersecretary for Domestic Finance; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of the Under Secretary for Domestic Finance of the Department of the Treasury is soliciting comments concerning requests for its determination that certain activities are financial in nature pursuant to the Gramm-Leach-Bliley Act, Public Law 106-102, 113 Stat. 1338 (GLBA).

DATES: Written comments should be received on or before February 25, 2005, to be assured of consideration.

ADDRESSES: Direct all written comments to Three Financial Activities Regulation, Office of Financial Institutions Policy, 1500 Pennsylvania Ave., NW., Room 3160 Treasury Annex, Washington, DC 20220.

FOR FURTHER INFORMATION CONTACT: Mario Ugoletti, Director, Office of Financial Institutions Policy (202) 622-0715, or Gary W. Sutton, Senior Banking Counsel, (202) 622-1976.

SUPPLEMENTARY INFORMATION: Title: Activities permitted under section 5136A(b)(3) of the Revised Statutes.

OMB Number: 1505-0179.

CFR Cite: 12 CFR 1501.2.

Abstract: Section 121 of the GLBA requires the Secretary of the Treasury (Secretary), in consultation with the Board of Governors of the Federal Reserve System, to define the extent to which three generally described activities are financial in nature or incidental to a financial activity, and therefore permissible for a financial subsidiary of a national bank. National banks and other interested parties may submit requests that the Secretary determine that an activity is included within one of these categories of activities and is therefore financial in nature or incidental to a financial activity, including in such request information to enable the Secretary to make such a determination.

Current Actions: The Secretary may notify those requesting such a determination that an activity is or is not within one of the three categories of activities and therefore is or is not financial in nature or incidental.

Type of Review: Extension.

Affected Public: National banks; other interested parties.

Estimated Number of Respondents: 1.

Estimated Time Per Respondent: 20 hours.

Estimated Total Annual Burden Hours: 20 hours.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: December 16, 2004.
Lois K. Holland,
Treasury PRA Clearance Officer.

[FR Doc. 04-28210 Filed 12-23-04; 8:45 am]

BILLING CODE 4810-25-P